NATIONAL INDIAN GAMING COMMISSION

Paperwork Reduction Act

AGENCY: National Indian Gaming Commission.

ACTION: Notice.

SUMMARY: The National Indian Gaming Commission (NIGC), in accordance with the Paperwork Reduction Act of 1995, intends to submit to the Office of Management and Budget (OMB) a request to review and extend approval for information collection activities prescribed by the following NIGC regulations: (1) Annual Fees; (2) Issuance of Certificates of Self Regulation to Tribes for Class II Gaming. As to each information collection activity, the NIGC solicits public comment on: the need for the information, the practical utility of the information and whether the information is necessary for the proper performance of NIGC functions; the accuracy of the burden estimate; and ways that the NIGC might minimize this burden including the use of automated collection techniques or other forms of information technology. When providing comment, a respondent should specify the particular collection activity to which the comment pertains.

DATES AND ADDRESSES: Comments for the NIGC's evaluation of the information collection activities and its request to OMB to extend or approve the information collections must be received by June 29, 2001. Send comments to Ms. Cindy Altimus, National Indian Gaming Commission, 1441 L Street, NW, Suite 9100, Washington, DC 20005. The NIGC regulations to which the information collections pertain are available on the NIGC website, www.nigc.gov, by written request to the NIGC (Attn: Ms. Cindy Altimus), 1441 L Street NW, Suite 9100, Washington, DC, 20005, or by telephone request at (202) 632-7003. There are no toll-free numbers. All other requests for information should be submitted to Ms. Altimus at the above address for the NIGC.

SUPPLEMENTARY INFORMATION:

Title: Annual Fees Payable by Indian Gaming Operations.

OMB Number: 3141-0007.

Abstract: The Indian Gaming Regulatory Act, 25 U.S.C. § 2701 et seq., authorizes the NIGC to establish a schedule of fees to be paid to the NIGC by each gaming operation under the jurisdiction of the NIGC. Fees are computed using rates set by the NIGC and the assessable gross revenues of each gaming operation. The total of all fees assessed annually cannot exceed $8,000,000. Under its implementing regulation for the fee payment program, 25 C.F.R. Part 514, the NIGC relies on a quarterly statement of gross gaming revenues provided by each gaming operation that is subject to the fee requirement. The required information is needed for the NIGC to both set and adjust fee rates and to support the computation of fees paid by each gaming operation.

Respondents: Indian tribal gaming operations.

Estimated Number of Respondents: 320.

Estimated Annual Responses: 1280.

Estimated Annual Burden Hours per Respondent: 8.

Estimated Total Annual Burden on Respondents: 10,240 hours.

Title: Petitions for Certificates of Self-Regulation for Class II Gaming Operations.

OMB Number: 3141-0008.

Abstract: The Indian Gaming Regulatory Act, 25 U.S.C. § 2701 et seq., allows any Indian tribe that has conducted class II gaming for at least three years to petition the NIGC for a certificate of self-regulation for its class II gaming operations. The NIGC will issue the certificate if it determines from available information that the tribe has conducted its gaming activity in a manner which has resulted in an effective and honest accounting of all revenues, a reputation for safe, fair, and honest operation of the activity, and an enterprise free of evidence of criminal or dishonest activity. The tribe must also have adopted and implemented proper accounting, licensing, and enforcement systems and conducted the gaming operation on a fiscally and economically sound basis. The implementing regulation of the NIGC, 25 CFR Part 518, requires a tribe interested in receiving the certificate to file a petition with the NIGC describing the tribe's gaming operations, its regulatory process, its tribal revenue allocation plan, and its accounting and record keeping systems for the gaming operation. The tribe must also provide copies of various documents in support of the petition. Submission of the petition and supporting documentation is voluntary. The NIGC will use the information submitted by the respondent tribe in making a determination on whether to issue the certificate of self-regulation.

Respondents: Indian tribes conducting class II gaming.

Estimated Number of Potential Respondents: 200.

Estimated Annual Voluntary Responses: 5.

Estimated Annual Burden Per Voluntary Respondent: 30 hours.

Estimated Total Annual Burden on Respondents: 150 hours.

Jacqueline Agtuca,
Chief of Staff.

[FR Doc. 01-10917 Filed 5-1-01; 8:45 am]

BILLING CODE 7565-01-P